DEPARTMENT OF COMMERCE

International Trade Administration

[A-844-802; A-823-802]

Revocation of Antidumping Duty Order on Uranium From Ukraine and Termination of Suspended Antidumping Duty Investigation on Uranium From Uzbekistan

AGENCY: Import Administration, International Trade Administration, Department of Commerce.

ACTION: Notice of revocation of antidumping duty order on uranium from Ukraine and termination of suspended antidumping duty investigation on uranium From Uzbekistan.

SUMMARY: On March 3, 2000, the Department of Commerce (“the Department”), pursuant to sections 751(c) and 752 of the Tariff Act of 1930, as amended (“the Act”), determined that revocation of the antidumping duty order on uranium from Ukraine would be likely to lead to continuation or recurrence of dumping. See Uranium from Ukraine; Final Results of Expedited Sunset Review of Antidumping Duty Order (“Final Results: Ukraine”), 65 FR 11552 (March 3, 2000). On July 5, 2000, the Department determined that termination of the suspended antidumping duty investigation on uranium from Uzbekistan would be likely to lead to continuation or recurrence of dumping. See Uranium from Uzbekistan; Final Results of Full Sunset Review of Suspended Antidumping Duty Investigation (“Final Results: Uzbekistan”), 65 FR 41441 (July 5, 2000).

On August 9, 2000, the International Trade Commission (“the Commission”), pursuant to section 751(c) of the Act, determined that revocation of the above antidumping duty order on uranium from Ukraine and termination of the suspended antidumping duty investigation on uranium from Uzbekistan would not be likely to lead to continuation or recurrence of material injury to an industry in the United States within a reasonably foreseeable time. See Uranium from Russia, Ukraine and Uzbekistan, (“ITC Final Results”), 65 FR 48734 (August 9, 2000). Therefore, pursuant to 19 CFR 351.222(i)(1), the Department is publishing notice of the revocation of the antidumping duty order on uranium from Ukraine and the termination of the suspended antidumping duty investigation on uranium from Uzbekistan.

Effective Date: January 1, 2000.

For Further Information Contact: Kathryn B. McCormick or James Maeder, Office of Policy for Import Administration, International Trade Administration, U.S. Department of Commerce, 14th Street and Constitution Ave., NW, Washington, DC 20230; telephone: (202) 482-1930 or (202) 482-3330, respectively.

SUPPLEMENTARY INFORMATION:

Background

On August 2, 1999, the Department initiated, and the Commission instituted, sunset reviews (64 FR 41915) of the antidumping duty order on uranium from Ukraine and the agreement suspending the antidumping duty investigation on uranium from Uzbekistan. As a result of its reviews, the Department found that revocation of the antidumping duty order and termination of the suspended antidumping duty investigation would likely lead to continuation or recurrence of dumping, and notified the Commission of the magnitude of the margins were the order revoked and suspension agreement terminated.

On August 9, 2000, the Commission determined, pursuant to section 751(c) of the Act, that revocation of the antidumping duty order on uranium from Ukraine and the termination of the suspended antidumping duty investigation on uranium from Uzbekistan would not be likely to lead to continuation or recurrence of material injury to an industry in the United States within a reasonably foreseeable time. See ITC Final Results, 65 FR 48734, and USITC Publication 3334 (August 2000), Investigation Nos. 731-TA-539-C, E and F (Review).

Scope of the Order and Suspension Agreement

Ukraine

The merchandise subject to this antidumping duty order includes Ukrainian natural uranium in the form of uranium ores and concentrates; natural uranium metal and natural uranium compounds; alloys, dispersions (including cermets), ceramic products, and mixtures containing natural uranium or natural uranium compounds; uranium enriched in U²³⁵ and its compounds; alloys, dispersions (including cermets), ceramic products and mixtures containing uranium enriched in U²³⁵ or compounds or uranium enriched in U²³⁵. Low enriched uranium (“LEU”) is included within the scope of the order; highly enriched uranium (“HEU”) is not. LEU is uranium enriched in U²³⁵ to a level of up to 20 percent, while HEU is uranium enriched in U²³⁵ to a level of 20 percent or more. The uranium subject to this order is provided for under subheadings 2612.10.00.00, 2844.10.10.00, 2844.10.20.10, 2844.10.20.25, 2844.10.20.50, 2844.10.20.55, 2844.10.50.00, 2844.20.00.10, 2844.20.00.20, 2844.20.00.30, and 2844.20.00.50 of the Harmonized Tariff Schedule of the United States (“HTSUS”).¹ Although the above HTSUS subheadings are provided for convenience and customs purposes, the written description remains dispositive.

¹ See Preliminary Determination of Sales at Less Than Fair Value: Uranium from Kazakhstan, Kyrgyzstan, Russia, Tajikistan, Ukraine and Uzbekistan; and Preliminary Determination of Sales at Not Less Than Fair Value: Uranium from Armenia, Azerbaijan, Byelarus, Georgia, Moldova and Turkmenistan, 57 FR 23380, 23381 (June 3, 1992).

The Department clarified, in the scope of the order, that: “milling” or “conversion” performed in a third country does not change the country of origin for the purposes of this order. Milling consists of processing uranium ore into uranium concentrate. Conversion consists of transforming uranium concentrate into natural uranium hexafluoride (UF6). Since milling or conversion does not change the country of origin, uranium ore or concentrate of Ukrainian origin that is subsequently milled and/or converted in a third country will still be considered of Ukrainian origin and subject to antidumping duties (58 FR 45483, August 30, 1993).

Uzbekistan

According to the June 3, 1992, preliminary determination, the suspended investigation included natural uranium in the form of uranium ores and concentrates; natural uranium metal and natural uranium compounds; alloys, dispersions (including cermets), ceramic products, and mixtures containing natural uranium or natural uranium compound; uranium enriched in U²³⁵ and its compounds; alloys dispersions (including cermets), ceramic products and mixtures containing uranium enriched in U²³⁵ or compounds or uranium enriched in U²³⁵; and any other forms of uranium within the same class or kind (57 FR 23381, 23382 (June 3, 1992)). The uranium subject to these investigations was provided for under HTSUS subheadings 2612.10.00.00, 2844.10.10.00, 2844.10.20.10, 2844.10.20.25, 2844.10.20.50, 2844.10.20.55, 2844.10.50, 2844.20.00.10, 2844.20.00.20, 2844.20.00.30, and 2844.20.00.50. Id. In addition, the Department preliminarily determined that HEU was not covered within the scope of the investigation, and that the subject merchandise constituted a single class or kind of merchandise.

On October 30, 1992, the Department issued a suspension of the antidumping duty investigation of uranium from Uzbekistan and an amendment of the preliminary determination.² The notice amended the scope of the investigation to include HEU.³ The suspension agreement provided that uranium ore from Uzbekistan that is milled into U3O8 and/or converted into UF6 in another country prior to direct and/or indirect importation into the United States is considered uranium from Uzbekistan and is subject to the terms of the Agreement.⁴ Further, uranium enriched in U²³⁵ in another country prior to direct and/or indirect importation into the United States was not considered uranium from Uzbekistan and was not subject to the terms of the suspension agreement.⁵ In this suspension agreement, imports of uranium ores and concentrates, natural uranium compounds, and all forms of enriched uranium are classifiable under HTSUS subheadings 2612.10.00, 2844.10.20, 2844.20.00, respectively. Imports of natural uranium metal and forms of natural uranium other than compounds were classifiable under HTSUS subheadings 2844.10.10 and 2844.44.10.50.

² See Antidumping; Uranium from Kazakhstan, Kyrgyszstan, Russia, Tajikistan, Ukraine, and Uzbekistan; Suspension of Investigations and Amendment of Preliminary Determinations, 57 FR 49220 (October 30, 1992).

³ Id. at 49221.

⁴ Id. at 49255.

⁵ Id.

On October 13, 1995, the Department issued an amendment to the suspension agreement on uranium from Uzbekistan. Among other things, this amendment modified the agreement to include Uzbek uranium enriched in a third country prior to importation into the United States.

Determination

As a result of the determinations by the Commission that revocation of the antidumping duty order on uranium from Ukraine and the termination of the suspended antidumping duty investigation on uranium from Uzbekistan would not be likely to lead to continuation or recurrence of dumping and material injury to an industry in the United States, pursuant to section 751(d)(2) of the Act, the Department hereby orders the revocation of the antidumping duty order on uranium from Ukraine and the termination of the suspended antidumping duty investigation on uranium from Uzbekistan. The Department will instruct the Customs Service to discontinue suspension of liquidation and collection of cash deposits on entries of subject merchandise entered or withdrawn from warehouse on or after January 1, 2000 (the effective date). The Department will complete any pending administrative reviews of this order and suspension agreement and will conduct administrative reviews of subject merchandise entered prior to the effective date of revocation and termination, respectively, in response to appropriately filed requests for review.

Dated: August 16, 2000.
Troy H. Cribb,
Acting Assistant Secretary for Import Administration.

[FR Doc. 00-21395 Filed 8-21-00; 8:45 am]

BILLING CODE 3510-DS-P